DEPARTMENT OF COMMERCE

International Trade Administration

[C-427-815]

Notice of Correction to Stainless Steel Sheet and Strip in Coils from France: Final Results of Countervailing Duty Administrative Review

AGENCY: Import Administration, International Trade Administration, Department of Commerce.

ACTION: Notice of correction to final results of countervailing duty administrative review.

SUMMARY: The Department is correcting Usinor's subsidy rate as listed in the notice of final results for the first administrative review of stainless steel sheet and strip in coils from France.

EFFECTIVE DATE: October 21, 2002.

FOR FURTHER INFORMATION CONTACT: Suresh Maniam at (202) 482-0176; Import Administration, International Trade Administration, U.S. Department of Commerce, 14th Street and Constitution Avenue, NW, Washington, DC 20230.

SUPPLEMENTARY INFORMATION:

Applicable Statute and Regulations

Unless otherwise indicated, all citations to the statute are references to the provisions effective January 1, 1995, the effective date of the amendments made to the Tariff Act of 1930 (the “Act”) by the Uruguay Round Agreements Act. In addition, unless otherwise indicated, all citations to the Department of Commerce's (the “Department”) regulations are references to the provisions codified at 19 CFR part 351 (April 2001).

Correction

On October 3, 2002, the Department published in the Federal Register a notice of final results for the first administrative review of stainless steel sheet and strip in coils from France (see Stainless Steel Sheet and Strip in Coils from France: Final Results of Countervailing Duty Administrative Review, 67 FR 62098 (October 3, 2002)). In the published version of that notice, the subsidy rate for Usinor was inadvertently listed as 1.90 percent ad valorem. Id. The correct subsidy rate for Usinor is 1.27 percent ad valorem. Therefore, we are correcting Usinor's subsidy rate to be 1.27 percent ad valorem.

This notice is issued and published pursuant to section 777(i)(1) of the Act.

Dated: October 10, 2002.
Faryar Shirzad,
Assistant Secretary for Import Administration.

[FR Doc. 02-26716 Filed 10-18-02; 8:45 am]

BILLING CODE 3510-DS-P